DEPARTMENT OF AGRICULTURE

Natural Resources Conservation Service

Notice of Availability of a Finding of No Significant Impact (FONSI)

AGENCY: Natural Resources Conservation Service, USDA.

ACTION: Notice of availability of a Finding of No Significant Impact for a project on the Williamson River Delta for review and comment.

SUMMARY: The NRCS has issued a Finding of No Significant Impact (FONSI) for a stream restoration project on the Williamson River Delta. A copy of the FONSI and the final Supplemental Environmental Assessment (SEA) is available for public review at the following locations:

• NRCS Office, 2316 South 6th Street, Suite C, Klamath Falls, OR 97601

• Klamath County Commissioners, 305 Main St, 2nd Floor, Klamath Falls, OR 97601

• Klamath Tribes Natural Resources Department, 501 Chiloquin Blvd., Chiloquin, OR 97624

• Additional copies may be obtained by contacting Shelley Tucker, NRCS, 541-883-6932—extension 113.

DATES: Comments will be received for a 30-day period commencing with this date of publication.

ADDRESSES: Address all requests and comments to Kevin Conroy, Basin Team Leader, Natural Resources Conservation Service (NRCS), 2316 South 6th Street, Suite C, Klamath Falls, OR 97601, 541-882-9044 (FAX).

FOR FURTHER INFORMATION CONTACT: Kevin Conroy, 541-883-6924.

Dated: October 15, 2002.
Bob Graham,
State Conservationist, Portland, OR.

[FR Doc. 02-27594 Filed 10-29-02; 8:45 am]

BILLING CODE 3410-16-P